DEPARTMENT OF JUSTICE

Antitrust Division

Notice Pursuant to the National Cooperative Research and Production Act of 1993—Robotics Technology Consortium, Inc.

Notice is hereby given that, on February 5, 2013, pursuant to Section 6(a) of the National Cooperative Research and Production Act of 1993, 15 U.S.C. 4301 et seq. (“the Act”), Robotics Technology Consortium, Inc. (“RTC”) has filed written notifications simultaneously with the Attorney General and the Federal Trade Commission disclosing changes in its membership. The notifications were filed for the purpose of extending the Act's provisions limiting the recovery of antitrust plaintiffs to actual damages under specified circumstances. Specifically, AM General LLC, Livonia, MI; Auburn University, Auburn, AL; DRS Sustainment Systems, Inc., St. Louis, MO; Eurisko Institute LLC, Monticello, FL; Humanistic Robotics, Inc., Philadelphia, PA; Polaris Sales, Inc., Medina, MN; TDC Acquisition Holdings, Inc., Huntsville, AL; Tech Wise, Colorado Springs, CO; University of Arizona, Tuscon, AZ; University of Texas at Arlington (Research Institute), Fort Worth, TX; and Whitney, Bradley & Brown, Inc., Reston, VA, have been added as parties to this venture.

Also, Butterfly Haptics, LLC, Pittsburgh, PA; EmergentViews, Inc., San Francisco, CA; International Computer Science Institute, Berkley, CA; L-3 Services Inc., Burlington, MA; National Robotics Training Center (NRTC) Florence Darlington Technical College, Florence, SC; Neptec USA Inc., Houston, TX; Northwest UAV Propulsion Systems, McMinnville, OR; rChordata, LLC, Charlotte, NC; Sky Research, Inc., Etna, NH; and TYZX, Inc., Menlo Park, CA, have withdrawn as parties to this venture.

No other changes have been made in either the membership or planned activity of the group research project. Membership in this group research project remains open, and RTC intends to file additional written notifications disclosing all changes in membership.

On October 15, 2009, RTC filed its original notification pursuant to Section 6(a) of the Act. The Department of Justice published a notice in the Federal Register pursuant to Section 6(b) of the Act on November 30, 2009 (74 FR 62599).

The last notification was filed with the Department on April 30, 2012. A notice was published in the Federal Register pursuant to Section 6(b) of the Act on June 8, 2012 (77 FR 34067).

Patricia A. Brink,
Director of Civil Enforcement, Antitrust Division.

[FR Doc. 2013-04727 Filed 2-28-13; 8:45 am]

BILLING CODE P